OVERSEAS PRIVATE INVESTMENT CORPORATION

Sunshine Act Meeting

OPIC's Sunshine Act notice of its public hearing was published in the Federal Register (Volume 68, Number 237, Page 68958 and 68959) on December 10, 2003. No requests were received to provide testimony or submit written statements for the record; therefore, OPIC's public hearing in conjunction with OPIC's January 6, 2004 Board of Directors meeting scheduled for 2 p.m. on December 30, 2003 has been cancelled.

FOR FURTHER INFORMATION CONTACT: Information on the hearing cancellation may be obtained from Connie M. Downs at (202) 336-8438, via facsimile at (202) 218-0136, or via e-mail at cdown@opic.gov.

Dated: December 30, 2003.
Connie M. Downs,
OPIC Corporate Secretary.

[FR Doc. 03-32315 Filed 12-30-03; 9:52 am]

BILLING CODE 3210-01-M